Title 3—

The President

Proclamation 9633 of August 31, 2017

National Alcohol and Drug Addiction Recovery Month, 2017

By the President of the United States of America

A Proclamation

During National Alcohol and Drug Addiction Recovery Month, we stand with the millions of Americans in recovery from alcohol and drug addiction, and reaffirm our commitment to support those who are struggling with addiction, and their families and loved ones. Substance abuse robs Americans of their potential, shatters their families, and tears apart our communities. My Administration is committed to lifting our Nation from this tragic reality.

Substance addiction affects people of every class, creed, and color. More than 20 million Americans are addicted to alcohol or other drugs, and countless more lives have been touched as a consequence of substance abuse.

Together, however, we can fight drug and alcohol abuse. This month, we emphasize to all those suffering that recovery is possible. My Administration is taking a proactive approach to support State and local communities as they work on the front lines to prevent substance use and addiction and to promote recovery. To date, we have dedicated more than $500 million to strengthening prevention programs, expanding access to evidence-based addiction treatment, and building networks of recovery support services across our Nation. And earlier this year, I established the President's Commission on Combating Drug Addiction and the Opioid Crisis to help guide the Federal Government's response to drug abuse and drug addiction, with a particular focus on the opioid epidemic that is currently afflicting our country.

Solving our Nation's drug and alcohol problems requires both a strong public health response and a strong public safety response that stems the flow of illicit drugs into our communities. I have, therefore, requested $2.6 billion in my 2018 budget proposal for border security and infrastructure that will improve our ability to protect Americans and the homeland from the dangers of drug trafficking.

During National Alcohol and Drug Addiction Recovery Month, and throughout the year, let us remember those who have bravely conquered their addiction. We also pray for those currently suffering so they may, through effective treatment and the strength of family and friends, transform their lives. Finally, let us also thank the family members, friends, and healthcare providers who provide much-needed assistance, encouragement, and love to support Americans in recovery.

NOW, THEREFORE, I, DONALD J. TRUMP, President of the United States of America, by virtue of the authority vested in me by the Constitution and the laws of the United States, do hereby proclaim September 2017 as National Alcohol and Drug Addiction Recovery Month. I call upon the people of the United States to observe this month with appropriate programs, ceremonies, and activities.

IN WITNESS WHEREOF, I have hereunto set my hand this thirty-first day of August, in the year of our Lord two thousand seventeen, and of the Independence of the United States of America the two hundred and forty-second.

[FR Doc. 2017-19046

Filed 9-5-17; 11:15 am]

Billing code 3295-F7-P